DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Monday, November 14, 2011, 2 p.m.-3:30 p.m.

LOCATION: Teleconference.

FOR FURTHER INFORMATION CONTACT: Amy Bodette, Designated Federal Officer, U.S. Department of Energy, 1000 Independence Avenue SW., Washington, DC 20585. Phone (202) 586-0383; facsimile (202) 586-1441; or email: seab@hq.doe.gov.

SUPPLEMENTARY INFORMATION: Background: The Board was reestablished to provide advice and recommendations to the Secretary on the Department's basic and applied research, economic and national security policy, educational issues, operational issues, and other activities as directed by the Secretary.

Purpose of the Meeting: The Natural Gas Subcommittee will present their final report to the Board.

Tentative Agenda: The meeting will start at 2 p.m. on November 14, 2011. The meeting agenda includes presentation of the final report from the Natural Gas Subcommittee and discussion of the recommendations. A draft of the report will be made available at www.shalegas.energy.gov and www.energy.gov/seab no later than Thursday, November 10, 2011. The meeting will conclude at 3:30 p.m.

Public Participation: The meeting will be conducted by teleconference and is open to the public. Individuals who would like to call in must RSVP to Amy Bodette no later than 5 p.m. on Wednesday, November 9, 2011, at seab@hq.doe.gov. There will be a limited number of call-in ports and RSVP is required to obtain dial-in information. Call-in ports will be made available to members of the public on a first come, first served basis. Individuals and representatives of organizations who would like to offer comments and suggestions may do so at the meeting on Monday, November 14, 2011. Approximately 30 minutes will be reserved for public comments. Time allotted per speaker will depend on the number who wish to speak, but will not exceed 5 minutes. Public Comment will be available on a first come, first served basis and will be queued by the call operator. The Designated Federal Officer is empowered to conduct the meeting in a fashion that will facilitate the orderly conduct of business.

Those not able to call in to the meeting or have insufficient time to address the committee are invited to send a written statement to Amy Bodette, U.S. Department of Energy, 1000 Independence Avenue SW., Washington, DC 20585; or email to seab@hq.doe.gov. Timely comments may also be posted online at www.shalegas.energy.gov. This notice is being published less than 15 days prior to the meeting date due to programmatic issues and members' availability that had to be resolved prior to the meeting date.

Minutes: The minutes of the meeting will be available on the SEAB Web site: http://www.energy.gov/SEAB or by contacting Ms. Bodette. She may be reached at the postal address or email address above.

Issued in Washington, DC, on October 28, 2011.
Carol A. Matthews,
Committee Management Officer.

[FR Doc. 2011-28433 Filed 11-1-11; 8:45 am]

BILLING CODE 6450-01-P